DEPARTMENT OF EDUCATION

Office of Special Education and Rehabilitative Services; Overview Information; Technology and Media Services for Individuals With Disabilities—Research on Technology Effectiveness and Implementation for Children With Disabilities; Notice Inviting Applications for New Awards for Fiscal Year (FY) 2005

Catalog of Federal Domestic Assistance (CFDA) Number: 84.327R.

DATES: Applications Available: March 4, 2005.

Deadline for Transmittal of Applications: April 15, 2005.

Deadline for Intergovernmental Review: June 14, 2005.

Eligible Applicants: State educational agencies (SEAs); local educational agencies (LEAs); public charter schools that are LEAs under State law; institutions of higher education (IHEs); other public agencies; private nonprofit organizations; outlying areas; freely associated States; Indian tribes or tribal organizations; and for-profit organizations.

Estimated Available Funds: $600,000.

Maximum Award: The Secretary does not intend to fund an application that proposes a budget exceeding $600,000 for a single budget period of 12 months. The Assistant Secretary for Special Education and Rehabilitative Services may change the maximum amount through a notice published in the Federal Register.

Number of Awards: 1.

Note: The Department is not bound by any estimates in this notice.

Project Period: Up to 60 months.

Full Text of Announcement

I. Funding Opportunity Description

Purpose of Program: The purpose of the program is to: (1) Improve results for children with disabilities by promoting the development, demonstration, and use of technology; (2) support educational media services activities designed to be of educational value in the classroom setting to children with disabilities; and (3) provide support for captioning and video description that is appropriate for use in the classroom setting.

Priority: In accordance with 34 CFR 75.105(b)(2)(iv), this priority is from allowable activities specified in the statute (see sections 674 and 681(d) of the Individuals With Disabilities Education Act (IDEA)).

Absolute Priority: For FY 2005 this priority is an absolute priority. Under 34 CFR 75.105(c)(3), we consider only applications that meet this priority.

This priority is: Technology and Media Services for Individuals With Disabilities—Research on Technology Effectiveness and Implementation for Children With Disabilities.

Background: Recent years have witnessed the emergence of a technology-based instructional medium that has been variously termed “electronic text”, “digital text”, “hypertext”, “hypermedia”, “supported text”, and other similar terms. In this priority, the expression “electronic text” will be used.

Specific features and capabilities of “electronic text” vary, but the following eight types of resources, proposed by Horney & Anderson-Inman (1999),¹ can be used as a basic (but not necessarily exhaustive) reference set to define “electronic text” as used in this priority—

¹ Horney, M. A. & Anderson-Inman, L. (1999). Supported Text in Electronic Reading Environments. Reading & Writing Quarterly, 15, 127-168.

(1) Translational resources that provide the reader with an alternate form for words or phrases that might be problematic (e.g., language translation or text-to-speech);

(2) Illustrative resources that provide the reader with examples, illustrations, or comparisons of a concept or set of concepts, often taking advantage of multimedia such as graphics, animation, or sound;

(3) Summarizing resources that provide an overview of the text's structure, content, or major features, for example in outline form (e.g., a table of contents with each title linked to its appropriate page in the text) or in graphic form (e.g., a concept map of key ideas in the document or a timeline of major events);

(4) Instructional resources that prompt students to learn by guiding their interaction with the text, for example by means of questions embedded in the text, tutorials, or assignments;

(5) Enrichment resources that augment the main body of the text with material that is related to, but not actually necessary for, comprehension, such as photos or sound clips;

(6) Notational resources that enable students to support their reading by such activities as recording observations, summarizing main ideas, or marking parts of the text;

(7) Collaborative resources that promote the process of joint construction of meaning when reading from text (e.g., collaborative projects shared electronically); and

(8) General-purpose resources that support the content of an electronic book with information that is relevant but never designed to be a part of the book, such as a dictionary linked to an electronic book but not designed specifically for that book.

In electronic text, these resources are generally under the learner's control and are accessed by means of “buttons,” specially-marked words, or images located in or near the text.

Electronic text has a number of potential benefits for students with disabilities. For example, it can provide supports to compensate for learning difficulties, sensory impairments, and academic skill deficits. Recently, a National Instructional Materials Accessibility Standard (NIMAS) was developed through an OSEP-funded grant. This new standard is expected to streamline the production of accessible textbooks to students who are blind or print-disabled, and holds tremendous promise related to addressing the needs of a much broader range of students with disabilities.

Toward this end, the Department of Education is funding two centers to support further development and implementation of NIMAS. The NIMAS Technical Assistance Center will provide information and technical assistance to States to improve their effectiveness and efficiency in providing accessible instructional materials to students with disabilities. The NIMAS Development Center will provide national leadership to develop the standard further, including making recommendations about updating and revising NIMAS to take into account advances in technology and to address the needs of a broader range of students with disabilities and evaluating whether adoption of the NIMAS standard results in greater and more timely availability of materials.

Notwithstanding the foregoing, research to document the benefits of electronic text for students with disabilities is not entirely conclusive. While some studies have found electronic text or some of its features to be effective in improving reading comprehension, other studies have found no effects, or inconsistent effects (MacArthur, Ferretti, Okolo, & Cavalier, 2001 ²). Moreover, resources added to text to provide access for one population of students may create accessibility barriers for others (e.g., graphic features may not be accessible to students with visual disabilities, hyper-linked resources or graphic organizers may increase cognitive demands and thus create barriers for students with cognitive disabilities). Finally, the effectiveness of electronic text in widespread use in typical educational environments has not been fully explored.

² MacArthur, C.A., Ferretti, R.P., Okolo, C.M., & Cavalier, A.R. (2001). Technology applications for students with literacy problems: A critical review. The Elementary School Journal, 101(3), 273-301.

Priority

This priority supports one cooperative agreement for a Center to conduct a systematic program of research on the use of electronic text to advance the principles of universal design (i.e., design of products that will be usable by all people, to the greatest extent possible, with minimal need for additional adaptations and accommodations) related to the development of curriculum and instructional materials that are accessible to all students with disabilities, in order to improve access to and progress in the general curriculum for students with disabilities.

Applicants must:

(a) Propose an operational definition of electronic text to be used in a program of research. This definition must incorporate at least five of the eight types of resources discussed in the Background section, and can include additional types of resources.

(b) Demonstrate that they have access to existing electronic text materials so that research can proceed quickly with minimal time devoted to additional development.

(c) Demonstrate knowledge of the state of practice in terms of use of products, sources of products, and research on electronic text.

(d) Present a plan for conducting a program of research to answer the following questions: (1) Does electronic text improve learning of academic content in actual educational settings with typical resources and levels of teacher support? (2) What characteristics of electronic text facilitate or impede access to and learning of academic content? (3) What student characteristics (e.g., disability, technology skills) and contextual factors (e.g., teacher training, hardware resources, student groupings) influence the effectiveness of electronic text?

This plan may focus on specific academic content areas, student ages, and implementations of electronic text, but, at a minimum, must address each of the three research questions separately for each of these populations: Students with learning disabilities, students with mental retardation, students with visual impairments or blindness, students with hearing impairments or deafness, and students with physical disabilities.

These research questions are intended to test causal relationships, and the research must employ rigorous experimental designs using randomized assignment or repeated measures unless a compelling case is made that such designs are not possible and that other designs, such as quasi-experiments with matched groups and statistical controls, can be used to determine treatment effects.

Applicants must fully describe methodologies and must provide documentation that available sample sizes and methodologies are sufficient to produce the statistical power needed to yield conclusive findings. Experimental research may be supplemented with qualitative or non-experimental methodologies, provided sufficient rigor is maintained.

The plan must provide for conducting the majority of research in actual educational environments using typical resources and levels of teacher support.

Once funded, the Center must:

(a) Establish a technical review board to review its operational definition of electronic text and its research plans, and identify any needed improvements.

(b) Revise its operational definition of electronic text and its research plan in accordance with comments from the technical review board and instructions from the U.S. Department of Education.

(c) Conduct the program of research called for in its plan, taking appropriate steps to ensure that the research is rigorous and objective. Toward this end, the Center must maintain communication with the U.S. Department of Education and the technical review board to identify needed corrective actions.

(d) Coordinate and collaborate with the NIMAS Development Center and the NIMAS Technical Assistance Center. This coordination must be designed to minimize duplication of effort and to ensure that the research conducted under this competition supports, to the maximum possible extent, the further development and implementation of NIMAS.

(e) Disseminate findings to appropriate audiences. The Center must submit reports for publication in peer-reviewed professional journals and for presentation at professional conferences, and must post reports on a Web site that meets a government or industry-recognized standard for accessibility.

(f) Formulate research-based guidelines for the development and use of electronic text to improve access to and progress in the general curriculum for students with disabilities. These guidelines must be designed to reflect, to the maximum possible extent, the implementation and possible further development of NIMAS.

(g) Budget for a two-day Research Project Directors' meeting, a two-day Technology Project Directors' meeting, and a two-day Technical Assistance and Dissemination Project Directors' meeting, each in Washington, DC during each year of the project.

Waiver of Proposed Rulemaking: Under the Administrative Procedure Act (APA) (5 U.S.C. 553), the Department generally offers interested parties the opportunity to comment on proposed priorities. However, section 681(d) of the IDEA makes the public comment requirements of the APA inapplicable to the priority in this notice.

Program Authority: 20 U.S.C. 1474.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Cooperative agreement.

Estimated Available Funds: $600,000.

Maximum Award: The Secretary does not intend to fund an application that proposes a budget exceeding $600,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: SEAs; LEAs; public charter schools that are LEAs under State law; IHEs; other public agencies; private nonprofit organizations; outlying areas; freely associated States; Indian tribes or tribal organizations; and for-profit organizations.

2. Cost Sharing or Matching: This competition does not involve cost sharing or matching.

3. Other: General Requirements—(a) The projects funded under this competition must make positive efforts to employ and advance in employment qualified individuals with disabilities (see section 606 of the IDEA).

(b) Applicants and grant recipients funded under this competition must involve individuals with disabilities or parents of individuals with disabilities ages birth through 26 in planning, implementing, and evaluating the projects (see section 682(a)(1)(A) of the IDEA).

IV. Application and Submission Information

1. Address To Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.327R.

Individuals with disabilities may obtain a copy of the application package in an alternative format (e.g., Braille, large print, audiotape, or computer diskette) by contacting the Grants and Contracts Services Team listed in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, the letters of support, or the appendix. However, you must include all of the application narrative in Part III.

We will reject your application if—

• You apply these standards and exceed the page limit; or

• You apply other standards and exceed the equivalent of the page limit.

3. Submission Dates and Times: Applications Available: March 4, 2005. Deadline for Transmittal of Applications: April 15, 2005.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Deadline for Intergovernmental Review: June 14, 2005.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications. We have been accepting applications electronically through the Department's e-Application system since FY 2000. In order to expand on those efforts and comply with the President's Management Agenda, we are continuing to participate as a partner in the new government wide Grants.gov Apply site in FY 2005. Research on Technology Effectiveness and Implementation for Children With Disabilities—CFDA Number 84.327R is one of the competitions included in this project.

If you choose to submit your application electronically, you must use the Grants.gov Apply site (http://www.grants.gov). Through this site, you will be able to download a copy of the application package, complete it offline, and then upload and submit your application. You may not e-mail an electronic copy of a grant application to us. We request your participation in Grants.gov.

You may access the electronic grant application for the Research on Technology Effectiveness and Implementation for Children with Disabilities—CFDA Number 84.327R competition at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted with a date/time received by the Grants.gov system no later than 4:30 p.m., Washington, DC time, on the application deadline date. We will not consider your application if it was received by the Grants.gov system later than 4:30 p.m. on the application deadline date. When we retrieve your application from Grants.gov, we will notify you if we are rejecting your application because it was submitted after 4:30 p.m. on the application deadline date.

• If you experience technical difficulties on the application deadline date and are unable to meet the 4:30 p.m., Washington, DC time, deadline, print out your application and follow the instructions in this notice for the submission of paper applications by mail or hand delivery.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that your application is submitted timely to the Grants.gov system.

• To use Grants.gov, you, as the applicant, must have a D-U-N-S Number and register in the Central Contractor Registry (CCR). You should allow a minimum of five business days to complete the CCR registration.

• You will not receive additional point value because you submit your application in electronic format, nor will we penalize you if you submit your application in paper format.

• You may submit all documents electronically, including all information typically included on the Application for Federal Education Assistance (ED 424), Budget Information—Non-Construction Programs (ED 524), and all necessary assurances and certifications. Any narrative sections of your application should be attached as files in a .DOC (document), .RTF (rich text) or .PDF (Portable Document) format.

• Your electronic application must comply with any page limit requirements described in this notice.

• After you electronically submit your application, you will receive an automatic acknowledgement from Grants.gov that contains a Grants.gov tracking number. The Department will retrieve your application from Grants.gov and send you a second confirmation by e-mail that will include a PR/Award number (an ED-specified identifying number unique to your application).

• We may request that you provide us original signatures on forms at a later date.

b. Submission of Paper Applications by Mail. If you submit your application in paper format by mail (through the U.S. Postal Service or a commercial carrier), you must mail the original and two copies of your application, on or before the application deadline date, to the Department at the applicable following address:

By mail through the U.S. Postal Service: U.S. Department of Education, Application Control Center, Attention: (CFDA Number 84.327R), 400 Maryland Avenue, SW., Washington, DC 20202-4260; or

By mail through a commercial carrier:

U.S. Department of Education, Application Control Center—Stop 4260, Attention: (CFDA Number 84.327R), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you submit your application in paper format by hand delivery, you (or a courier service) must deliver the original and two copies of your application by hand, on or before the application deadline date, to the Department at the following address: U.S. Department of Education, Application Control Center, Attention: (CFDA Number 84.327R), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department: (1) You must indicate on the envelope and—if not provided by the Department—in Item 4 of the Application for Federal Education Assistance (ED 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department is currently developing measures that will yield information on various aspects of the quality of the Technology and Media Services to Improve Services and Results for Children with Disabilities program (e.g., the extent to which projects are of high quality and are relevant to the needs of children with disabilities). Data on these measures will be collected from the projects funded under this competition.

Grantees will also be required to report information on their projects' performance in annual reports to the Department (34 CFR 75.590).

We will notify grantees of the performance measures once they are developed.

VII. Agency Contact

FOR FURTHER INFORMATION CONTACT: Dave Malouf, U.S. Department of Education, 400 Maryland Avenue, SW., room 4078, Potomac Center Plaza, Washington, DC 20202-2550. Telephone: (202) 245-7427.

If you use a telecommunications device for the deaf (TDD), you may call the Federal Information Relay Service (FIRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 24, 2005.
John H. Hager,
Assistant Secretary for Special Education and Rehabilitative Services.

[FR Doc. 05-4103 Filed 3-2-05; 8:45 am]

BILLING CODE 4000-01-P